ENVIRONMENTAL PROTECTION AGENCY

[ER-FRL-9012-1]

Initiation of Scoping for an Environmental Assessment (EA)

AGENCY: Environmental Protection Agency (EPA).

ACTION: Initiation of scoping.

SUMMARY: Pursuant to the National Environmental Policy Act (NEPA) (42 U.S.C. 4321-4307h), the Council on Environmental Quality's NEPA regulations (40 CFR Part 1500-1508), and EPA's regulations for implementing NEPA (40 CFR Part 6), EPA will prepare an Environmental Assessment (EA) to analyze the potential environmental impacts related to the reissuance of the National Pollutant Discharge Elimination System (NPDES) General Permit for Discharges from Industrial Activities, also referred to as the Multi-Sector General Permit. The EA will evaluate the potential environmental impacts from the discharge of pollutants in stormwater discharges from new sources associated with industrial facilities where EPA is the permitting authority. EPA will use the information in the EA to determine whether to prepare an Environmental Impact Statement (EIS).

This notice initiates the scoping process by inviting comments from Federal, State, and local agencies, Indian tribes, and the public to help identify the environmental issues and reasonable alternatives to be examined in the EA. The scoping process will inform the preparation of the EA, which will be made available for public comment.

DATES: Comments must be received by December 16, 2013.

ADDRESSES: You may submit scoping comments by any of the following methods:

• Mail: ATTN: CGP Scoping Comments, U.S. Environmental Protection Agency, William Jefferson Clinton Building—South, 1200 Pennsylvania Avenue NW., Mail Code: 2252A, Washington, DC 20460.

• Electronically: email comments to trice.jessica@epa.gov, Subject line: CGP Scoping Comments.

• Courier: ATTN: CGP Scoping Comments, U.S. Environmental Protection Agency, William Jefferson Clinton Building—South, 1200 Pennsylvania Avenue NW., Rm # 7235A, Washington, DC 20004, between 9 a.m. and 5 p.m. Eastern time, Monday through Friday, except Federal holidays.

• Fax: 202-564-0072, ATTN: CGP Scoping Comments.

Comments should be received within 30 days of the date of the publication of this notice in the Federal Register. EPA's policy is that all comments received will be included in the public docket without change and may be made available online, including any personal information provided, unless the comment includes information claimed to be Confidential Business Information (CBI) or other information whose disclosure is restricted by statute. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

FOR FURTHER INFORMATION CONTACT: Jessica Trice, NEPA Compliance Division, Office of Federal Activities, U.S. Environmental Protection Agency, 1200 Pennsylvania Avenue NW., Mail Code: 2252A, Washington, DC 20460. Telephone: (202) 564-6646.

SUPPLEMENTARY INFORMATION: EPA is seeking public comment to determine the scope of environmental issues and reasonable alternatives to be addressed in the EA on the reissuance of the National Pollutant Discharge Elimination System (NPDES) general permit for the discharge of pollutants in stormwater discharges from new sources associated with industrial facilities where EPA is the permitting authority. EPA invites the public to submit comments electronically through email or by mail or fax to the address cited in the ADDRESSES section during the 30-day comment period following the publication of this notice in the Federal Register.

Since 1995, EPA has issued a series of NPDES Multi-Sector General Permits (MSGP) that cover areas where EPA is the permitting authority. At present, EPA is the permitting authority in four states (Idaho, Massachusetts, New Hampshire, and New Mexico), the District of Columbia, Puerto Rico, all U.S. territories with the exception of the Virgin Islands, federal facilities in four states (Colorado, Delaware, Vermont, and Washington), most Indian lands and a few other specifically designated activities in specific states (e.g., oil and gas activities in Texas and Oklahoma). EPA's current MSGP became effective on September 29, 2008 (see 73 FR 56572) and will expire on September 29, 2013 (Note: Facilities that obtained coverage under the 2008 MSGP prior to its expiration are automatically granted an administrative continuance of permit coverage. EPA has issued a memorandum concerning new facilities that begin discharging stormwater associated with industrial activity after September 29, 2013. This memorandum provides a “no action assurance” for the new facilities that comply with the requirements of the 2008 MSGP, subject to particular terms and conditions as set forth in the memorandum). On September 27, 2013, EPA proposed for public comment the proposed National Pollutant Discharge Elimination System general permit for the discharge of pollutants in stormwater discharges from industrial facilities. 78 Fed. Reg. 59675. The proposed permit, would replace the 2008 MSGP. EPA proposes to issue the multi-sector general permit for five (5) years, and to provide permit coverage for sectors of industrial point source discharges that occur in areas not covered by an approved state NPDES program.

EPA is currently planning to analyze two alternatives in the EA: No Action, that is not issuing the MSGP; and the proposed action, which is issuing the draft MSGP as proposed for a designated new source of industrial stormwater discharge. The EA will focus its analysis on the potential environmental impacts of both alternatives.

Dated: November 12, 2013.
Cliff Rader,
Director, NEPA Compliance Division, Office of Federal Activities.

[FR Doc. 2013-27439 Filed 11-14-13; 8:45 am]

BILLING CODE 6560-50-P